SECURITIES AND EXCHANGE COMMISSION

[Release No. 35-27174]

Filings Under the Public Utility Holding Company Act of 1935, As Amended (“Act”)

Correction

In notice document 00-11961 beginning on page 30650 in the issue of Friday, May 12, 2000, make the following correction:

On page 30650, in the third column, in the first paragraph under the heading Financings, in the seventh line down, “March 31, 2000” should read “March 31, 2002.”

[FR Doc. C0-11961 Filed 5-17-00; 8:45 am]

BILLING CODE 1505-01-D